DEPARTMENT OF COMMERCE

International Trade Administration

[A-533-840]

Certain Frozen Warmwater Shrimp From India: Correction to the Initiation Notice of the 2016-2017 Antidumping Duty Administrative Review

AGENCY: Enforcement and Compliance, International Trade Administration, Department of Commerce.

FOR FURTHER INFORMATION CONTACT: Manuel Rey, Enforcement and Compliance, International Trade Administration, U.S. Department of Commerce, 1401 Constitution Avenue NW., Washington, DC 20230; telephone: (202) 482-5518.

SUPPLEMENTARY INFORMATION:

Background

On April 10, 2017, the Department of Commerce (the Department) published in the Federal Register notice of its initiation of the 2016-2017 administrative review of the antidumping duty order on certain frozen warmwater shrimp from India.¹ The period of review is February 1, 2016, through January 31, 2017. Subsequent to the publication of the initiation of this segment of the proceeding in the Federal Register, we identified inadvertent errors in the Initiation Notice:.

¹ See Initiation of Antidumping and Countervailing Duty Administrative Reviews, 82 FR 17188 (April 10, 2017) (Initiation Notice).

• First, the Department omitted from the Initiation Notice the following companies for which a review was requested: MTR Foods; Royale Marine Impex Pvt. Ltd.; and Sagar Foods.²

² Because the Department received timely review requests for these companies, we now correct the Initiation Notice to initiate reviews for them.

• Second, we initiated the review for Hindustan Lever, Ltd., a company for which no review was requested.³

³ The Department did not receive a review request for this company; therefore, it should not have been included in the Initiation Notice. As a result, we now correct the Initiation Notice to remove this company name.

• Third, we initiated the review on duplicate companies.⁴

⁴ These companies are as follows: Edhayam Frozen Foods Private Limited; Kadalkanny Frozen Foods; Kader Exports Private Limited; Kader Investment and Trading Company Private Limited; Kay Kay Exports (Kay Kay Foods); Liberty Frozen Foods Private Limited; Liberty Oil Mills Ltd.; Nila Sea Foods Exports; Satya Seafoods Private Limited; Universal Cold Storage Private Limited; and Usha Seafoods. These companies were either: (1) found in a previous segment of this proceeding to be part of a collapsed entity (i.e., treated as a single entity for purposes of calculating antidumping duty rates); For (2) considered to be a name variation (i.e., “also known as”) of another company for which the Department also received a review request. Therefore, we have removed the duplicated instance of the names of these companies.

• Finally, we made typographical errors in the name of several companies.⁵

⁵ The following names involved typographical errors: Exporter Coreline Exports Falcon Marine Exports Limited/K.R. Enterprises, Sprint Exports Pvt. Ltd. Sri Sakkthi Cold Storage, and Amarsagar Seafoods Exports Private Limited. The correct individual company names are Exporter Coreline Exports, Falcon Marine Exports Limited/K.R. Enterprises, Sprint Exports Pvt. Ltd., Sri Sakkthi Cold Storage, and Amarsagar Seafoods Private Limited.

The Department is hereby correcting the Initiation Notice to address these errors. This correction to the notice of initiation of administrative review is issued and published in accordance with sections 751(a) and 777(i)(1) of the Tariff Act of 1930, as amended.

Dated: June 8, 2017.
Gary Taverman,
Deputy Assistant Secretary for Antidumping and Countervailing Duty Operations.

[FR Doc. 2017-12186 Filed 6-12-17; 8:45 am]

BILLING CODE 3510-DS-P